SMALL BUSINESS ADMINISTRATION

Revocation of License of Small Business Investment Company

Pursuant to the authority granted to the United States Small Business Administration by the Final Order of the United States District Court for the Northern District of California, San Francisco Division, dated October 6, 2004, in Case No. C01-4886 EMC, the United States Small Business Administration hereby revokes the license of Point West Ventures, L.P., a Delaware Limited Partnership, to function as a small business investment company under the Small Business Investment Company License No. 09/09-0411 issued to Point West Ventures, L.P. on September 26, 1997, and said license is hereby declared null and void as of November 24, 2004.

Small Business Administration.
Dated: December 14, 2004.
Jaime Guzman Fournier,
Acting Associate Administrator for Investment.

[FR Doc. 04-27764 Filed 12-17-04; 8:45 am]

BILLING CODE 8025-01-P